DEPARTMENT OF HOMELAND SECURITY

Coast Guard

33 CFR Part 165

[Docket No. USCG-2025-0214]

Safety Zone; Greater Bath Foundation Fireworks Display, Bath Creek, Bath, NC

AGENCY: Coast Guard, DHS.

ACTION: Notification of enforcement of regulation; correction.

SUMMARY: The Coast Guard published a notification of enforcement of regulation in the Federal Register on April 1, 2025, concerning the enforcement a safety zone for the Greater Bath Foundation Fireworks Display, Bath Creek, Bath, NC. That document contained an incorrect CFR citation. This document corrects that citation.

DATES: This correction is effective April 23, 2025.

FOR FURTHER INFORMATION CONTACT: For information about this document call or email LCDR Carl E. Hendrickson, Waterways Management Division Chief, U.S. Coast Guard; 571-610-2601, email carl.e.hendrickson@uscg.mil.

SUPPLEMENTARY INFORMATION: The Coast Guard is correcting a notification of enforcement of regulation that published April 1, 2025. The Coast Guard is making this change to ensure interested persons can locate the safety zone within 33 CFR part 165.

Correction

In the Federal Register of April 1, 2025, in FR Doc. 2025-05536, on page 89 FR 14338, in the heading, 33 CFR part 100, is corrected to read 33 CFR part 165.

Dated: April 7, 2025.
Michael T. Cunningham,
Office Chief, Office of Regulations and Administrative Law.

[FR Doc. 2025-06954 Filed 4-22-25; 8:45 am]

BILLING CODE 9110-04-P